DEPARTMENT OF THE INTERIOR

Fish and Wildlife Service

50 CFR Part 17

[FWS-R3-ES-2011-N107; 30120-1113-0000-C4]

Endangered and Threatened Wildlife and Plants; 5-Year Status Reviews of Seven Listed Species

AGENCY: Fish and Wildlife Service, Interior.

ACTION: Notice of initiation of reviews; request for information.

SUMMARY: We, the U.S. Fish and Wildlife Service, are initiating 5-year status reviews under the Endangered Species Act of 1973, as amended (Act), of seven animal and plant species. We conduct these reviews to ensure that our classification of each species on the Lists of Endangered and Threatened Wildlife and Plants as threatened or endangered is accurate. A 5-year review assesses the best scientific and commercial data available at the time of the review. We are requesting the public to send us any information that has become available since the most recent status reviews on each of these species. Based on review results, we will determine whether we should change the listing status of any of these species.

DATES: To ensure consideration, please send your written information by September 26, 2011. However, we will continue to accept new information about any listed species at any time.

ADDRESSES: For how and where to send comments or information, see “VIII. Contacts” under SUPPLEMENTARY INFORMATION.

FOR FURTHER INFORMATION CONTACT: To request information, see “VIII. Contacts” under SUPPLEMENTARY INFORMATION. Individuals who are hearing impaired or speech impaired may call the Federal Relay Service at 800-877-8337 for TTY (telephone typewriter or teletypewriter) assistance.

SUPPLEMENTARY INFORMATION:

I. Why do we conduct a 5-year review?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Then, under section 4(c)(2)(B), we determine whether to remove any species from the List (delist), to reclassify it from endangered to threatened, or to reclassify it from threatened to endangered. Any change in Federal classification requires a separate rulemaking process.

In classifying, we use the following definitions, from 50 CFR 424.02:

(A) Species includes any species or subspecies of fish, wildlife, or plant, and any distinct population segment of any species of vertebrate, that interbreeds when mature;

(B) Endangered species means any species that is in danger of extinction throughout all or a significant portion of its range; and

(C) Threatened species means any species that is likely to become an endangered species within the foreseeable future throughout all or a significant portion of its range.

We must support delisting by the best scientific and commercial data available, and only consider delisting if data substantiate that the species is neither endangered nor threatened for one or more of the following reasons (50 CFR 424.11(d)):

(A) The species is considered extinct;

(B) The species is considered to be recovered; or

(C) The original data available when the species was listed, or the interpretation of data, were in error.

Our regulations at 50 CFR 424.21 require that we publish a notice in the Federal Register announcing the species we are reviewing.

II. What species are under review?

This notice announces our active 5-year status reviews of the species.

Current Listing Status of Species Under 5-Year Status Review
Common name | Scientific name | Status | Where listed | Final listing rule publication date and citation
ANIMALS
Bat, gray | Myotis grisescens | Endangered | Central and Southeastern U.S.A | April 28, 1976 (41 FR 17736).
Bat, Indiana | Myotis sodalis | Endangered | Eastern and Midwestern U.S.A | March 11, 1967 (32 FR 4001).
Snake, copperbelly water | Nerodia erythrogaster neglecta | Threatened | IN north of 40° N. Lat., MI, OH | January 29, 1997 (62 FR 4183).
Mussel, scaleshell | Leptodea leptodon | Endangered | U.S.A. (AL, AR, IA, IL, IN, KY, MN, MO, OH, OK, SD, TN, WI) | October 9, 2001 (66 FR 51322).
Pearlymussel, Curtis' | Epioblasma florentina curtisii | Endangered | U.S.A. (AR, MO) | June 14, 1976 (41 FR 24062).
PLANTS
Decurrent false aster | Boltonia decurrens | Threatened | U.S.A. (IL, MO). | November 14, 1988 (53 FR 45858).
Fassett's locoweed | Oxytropis campestris var. chartacea | Threatened | U.S.A. (WI) | September 28, 1988 (53 FR 37972).

III. What do we consider in our review?

We consider all new information available at the time we conduct a 5-year status review. We consider the best scientific and commercial data that have become available since our current listing determination, or most recent status review that is accessible from our Web site http://www.fws.gov/midwest/Endangered/recovery/5yr_rev/completed5yrs.html, such as:

(A) Species biology, including but not limited to population trends, distribution, abundance, demographics, and genetics;

(B) Habitat conditions, including but not limited to amount, distribution, and suitability;

(C) Conservation measures that have been implemented that benefit the species;

(D) Threat status and trends (see five factors under heading “How Do We Determine Whether a Species Is Endangered or Threatened?”); and

(E) Other new information, data, or corrections, including but not limited to taxonomic or nomenclatural changes, identification of erroneous information contained in the List, and improved analytical methods.

For the copperbelly water snake, we specifically request information that pertains only to the northern distinct population segment (DPS). The copperbelly watersnake was listed as a DPS of a vertebrate taxon. The listed DPS occurs in Michigan, Ohio, and Indiana north of 40 degrees north latitude (approximately Indianapolis, Indiana). A DPS is defined in the February 7, 1996, Policy Regarding the Recognition of Distinct Vertebrate Population Segments (61 FR 4722). Three elements are considered to list a population under the Act as a DPS: (1) The discreteness of the population segment in relation to the remainder of the species to which it belongs; (2) The significance of the population segment to the species to which it belongs; and (3) The population segment's conservation status in relation to the Act's standards for listing (i.e., is the population segment endangered or threatened?). Distinct population segments of vertebrate species, as well as subspecies of all listed species, may be proposed for separate reclassification or for removal from the List. As required by the DPS policy, we will assess the validity of the current DPS designation during the 5-year review. The southern population (i.e., in Illinois, Kentucky, and Indiana south of 40 degrees north latitude) is not listed as a threatened species at this time and is not part of this 5-year review.

IV. How do we determine whether a species is endangered or threatened?

Section 4(a)(1) of the Act requires that we determine whether a species is endangered or threatened based on one or more of the five following factors:

(A) The present or threatened destruction, modification, or curtailment of its habitat or range;

(B) Overutilization for commercial, recreational, scientific, or educational purposes;

(C) Disease or predation;

(D) The inadequacy of existing regulatory mechanisms; or

(E) Other natural or manmade factors affecting its continued existence.

Under section 4(b)(1) of the Act, we must base our assessment of these factors solely on the best scientific and commercial data available.

V. What could happen as a result of our review?

For each species under review, if we find new information that indicates a change in classification may be warranted, we may propose a new rule that could do one of the following:

(A) Reclassify the species from threatened to endangered (uplist);

(B) Reclassify the species from endangered to threatened (downlist); or

(C) Remove the species from the List (delist).

If we determine that a change in classification is not warranted, then the species remains on the List under its current status.

VI. Request for New Information

To ensure that a 5-year review is complete and based on the best available scientific and commercial information, we request new information from all sources. See “What Information Do We Consider in Our Review?” for specific criteria. If you submit information, support it with documentation such as maps, bibliographic references, methods used to gather and analyze the data, and/or copies of any pertinent publications, reports, or letters by knowledgeable sources.

Submit your comments and materials to the appropriate U.S. Fish and Wildlife Service office listed under “VIII. Contacts.”

Submit all electronic information in Text or Rich Text format to FW3MidwestRegion_5YearReview@fws.gov. Please send information for each species in a separate e-mail. Provide your name and return address in the body of your message, and include the following identifier in your e-mail subject line: Information on 5-year review for [NAME OF SPECIES].

VII. Public Availability of Comments

Before including your address, phone number, e-mail address, or other personal identifying information in your comment, you should be aware that your entire comment—including your personal identifying information—may be made publicly available at any time. While you can ask us in your comment to withhold your personal identifying information from public review, we cannot guarantee that we will be able to do so. Comments and materials received will be available for public inspection, by appointment, during normal business hours at the offices where the comments are submitted.

VIII. Contacts

Send your comments and information on the following species, as well as requests for information, to the corresponding contacts. You may view information we receive in response to this notice, as well as other documentation in our files, at the following locations by appointment, during normal business hours.

Species | Contact person, phone, e-mail | Contact address
Gray bat | Dr. Paul McKenzie, (573) 234-2132, extension 107, paul_mckenzie@fws.gov. | Columbia Missouri Field Office, U.S. Fish and Wildlife Service, 101 Park DeVille Drive, Suite A, Columbia, MO 65203-0007.
Indiana bat | Mr. Andrew King, (812) 334-4261, extension 1216, andrew_king@fws.gov. | Bloomington Field Office, U.S. Fish and Wildlife Service, 620 S. Walker Street, Bloomington, IN 47403-2121.
Copperbelly water snake | Ms. Barbara Hosler, (517) 351-6326, barbara_hosler@fws.gov. | East Lansing Field Office, U.S. Fish and Wildlife Service, 2651 Coolidge Road, Suite 101, East Lansing, MI 48823-6316.
Scaleshell mussel and Curtis pearlymussel | Mr. Andy Roberts, (573) 234-2132, extension 110, andy_roberts@fws.gov. | Columbia Missouri Field Office, U.S. Fish and Wildlife Service, 101 Park DeVille Drive, Suite A, Columbia, MO 65203-0007.
Boltonia decurrens | Ms. Jody Millar, (309) 757-5800, extension 202, jody_millar@fws.gov. | Rock Island Field Office, U.S. Fish and Wildlife Service, 1511 47th Avenue, Moline, IL 61265.
Oxytropis campestris var. chartacea | Ms. Catherine Carnes, (920) 866-1732, cathy_carnes@fws.gov. | Green Bay Field Office, U.S. Fish and Wildlife Service, 2661 Scott Tower Drive, WI 54229-9565.

IX. Authority

We publish this notice under the authority of the Endangered Species Act of 1973, as amended (16 U.S.C. 1531 et seq.).

Dated: June 14, 2011.
Lynn M. Lewis,
Assistant Regional Director, Ecological Services, Midwest Region.

[FR Doc. 2011-18893 Filed 7-25-11; 8:45 am]

BILLING CODE 4310-55-P